DEPARTMENT OF EDUCATION

Applications for New Awards; Fund for the Improvement of Postsecondary Education—Career and Educational Pathways Exploration System Program

AGENCY: Office of Postsecondary Education, Department of Education.

ACTION: Notice.

SUMMARY: The Department of Education (Department) is issuing a notice inviting applications for new awards for fiscal year (FY) 2020 for the Fund for the Improvement of Postsecondary Education (FIPSE) Career and Educational Pathways Exploration System (Career Pathways) Program, Assistance Listing Number 84.116C. This notice relates to the approved information collection under OMB control number 1894-0006.

DATES: Applications Available: November 9, 2020. Deadline for Transmittal of Applications: December 9, 2020.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Sharon Easterling, U.S. Department of Education, 400 Maryland Avenue SW, Room 278-14, Washington, DC 20202-4260. Telephone: (202) 453-7425. Email: Sharon.Easterling@ed.gov, or Carmen Gordon, U.S. Department of Education, 400 Maryland Avenue SW, Room 278-42, Washington, DC 20202-4260. Telephone (202) 453-7311. Email: Carmen.Gordon@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Career Pathways Program funded through FIPSE is to develop technology-based or technology-enabled career exploration systems that enable high school students to identify and explore career opportunities that align with their interests, ambitions, and aptitudes; learn from individuals who work in those fields about the nature of their work and opportunities available in their fields; and identify education and training options—including non-college programs such as work-based learning opportunities, military training, apprenticeships, and employer-sponsored training—that enable entry into or advancement in those careers. Career and education pathways exploration systems must include, for featured occupations, information about employment outlook and likely entry and mid-career earnings in featured fields, and they must enable students to use built-in financial analysis tools to explore the economic impact of their career, education, and training choices.

Background: In FY 2020, Congress appropriated $24.5 million to FIPSE, including $10 million designated to the Career Pathways Program, to support the development of Career and Education Pathways Exploration Systems that will increase student awareness of the many career opportunities available to them and knowledge among students, educators, parents, and counselors about the many education and training pathways that provide entry to and advancement in those careers. These grants are intended to support the creation of scalable career exploration and guidance systems that help students identify their career interests; explore potential occupations that align with those interests; interact with individuals who work in particular jobs of interest to them, or with artificial intelligence or other interactive technologies in the fields of interest; consider the various education and training options (including non-college options, such as work-based learning, apprenticeships, employer-sponsored training, and military service) that enable entrance to and advancement in those occupations; and identify the attitudes, skills, and aptitudes necessary to be successful in those fields.

Through this grant competition, we invite non-profit organizations with expertise in workforce development or career counseling, alone or in partnership with institutions of higher education (IHEs) or other non-profit agencies/organizations, trade associations, employers, States, and labor unions to develop, adapt, or expand career exploration and guidance systems that will enable students (and their parents) to engage in career exploration and education/training planning. These systems must be technology based so that they can be deployed at scale, and they must include financial analysis tools that allow students to compare the direct and opportunity costs (including student loan interest) of the educational pathways they are considering as well as earnings potential among occupations of interest.

These exploration and guidance systems must feature the full range of education and training pathways, including short-term programs (less than 600 hours), apprenticeships, employer-sponsored training, military training opportunities, and more traditional college pathways.

Priority: This notice contains one absolute priority. We are establishing this priority for the FY 2020 grant competition and any subsequent year in which we make awards from the list of unfunded applications from this competition in accordance with section 437(d)(1) of the General Education Provisions Act (GEPA), 20 U.S.C. 1232 (d)(1).

Absolute Priority: Under 34 CFR 75.105(c)(3), we consider only applications that meet this absolute priority.

Providing Career and Education Pathways Exploration Systems.

To meet this priority, applicants must submit—

(a) A plan to create or expand a sustainable technology-based or technology-enabled career and education pathways exploration system that accomplishes all of the following objectives:

(1) Enabling high school students to identify and learn about career opportunities based on their personal interests, aptitudes, and career goals;

(2) Enabling high school students to identify, consider, and compare the possible education and training pathways that lead to career entry and advancement in their fields of interest;

(3) Engaging individuals who work in featured occupations, or using other interactive bot technologies simulating interaction with an individual, to provide information to students about their experience working in the field, the aptitudes and attitudes that are necessary for success, and the challenges and opportunities typical for those who work in the field; and

(4) Enabling students to use embedded financial tools to compare the cost and benefits of the career options and educational pathways they are considering, including the long-term impact of taking student loans on their financial security, including likely entry and mid-career earnings in featured fields.

(b) An evaluation plan to assess the effectiveness of the system in assisting students in identifying their career goals, identifying potential education pathways to achieve that goal, and comparing the costs and benefits of each pathway.

(c) A logic model for developing and implementing the project.

Program Requirements: We are establishing the program requirements for the FY 2020 grant competition and any subsequent year in which we make awards from the list of unfunded applications from this competition in accordance with section 437(d)(1) of GEPA.

The program requirements are:

Independent Evaluation.

A grantee must conduct an independent evaluation of the activities carried out under the grant and submit to the Department an annual report that includes—

(a) A description of how the grant funds were used;

(b) The performance of the project with respect to, at a minimum, the performance measures described in the approved application; and

(c) A quantitative analysis of the effectiveness of the project.

Use of Funds.

A grantee must use the funds awarded for the following activities:

(a) Development of a technology-based or technology-enabled career exploration and pathways system that enables students to identify career options and possible education and training pathways based on their interests, aptitudes, and goals.

(b) Identifying and recruiting individuals who work in featured occupations to participate in content development for the system and providing career information to students.

(c) Providing training to high school guidance counselors and teachers on proper use of the system to help students explore career opportunities and educational pathways.

(d) Disseminating information about the system to high schools, workforce development boards, training providers, IHEs, and other entities.

Definitions:

The definition of Institution of Higher Education is from section 101 of the Higher Education Act of 1965, as amended (HEA). The definitions of Baseline, Logic Model, Performance Measure, Performance Target, Project Component, and Relevant Outcome are from 34 CFR 77.1. We are establishing the definitions of Independent Evaluation, Parent, and Work-Based Learning for this competition in accordance with section 437(d)(1) of GEPA.

Baseline means the starting point from which performance is measured and targets are set.

Independent Evaluation means an evaluation of a Project Component that is designed and carried out independently of, but in coordination with, the entities that develop or implement the Project Component.

Institution of Higher Education (IHE) means—

(a) An educational institution in any State that—

(1) Admits as regular students only persons having a certificate of graduation from a school providing secondary education, or the recognized equivalent of such a certificate, or persons who meet the requirements of section 484(d)(3) of the HEA;

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted pre-accreditation status by such an agency or association that has been recognized by the Secretary of Education for the granting of pre-accreditation status, and the Secretary of Education has determined that there is satisfactory assurance that the institution will meet the accreditation standards of such an agency or association within a reasonable time.

(b) The term also includes:

(1) Any school that provides not less than a 1-year program of training to prepare students for gainful employment in a recognized occupation and that meets the provisions of paragraphs (1), (2), (4), and (5) of paragraph (a) of this definition; and

(2) A public or nonprofit private educational institution in any State that, in lieu of the requirement in paragraph (a)(1) of this definition, admits as regular students individuals—

(i) Who are beyond the age of compulsory school attendance in the State in which the institution is located; or

(ii) Who will be dually or concurrently enrolled in the institution and a secondary school.

Logic Model (also referred to as a theory of action) means a framework that identifies key Project Components of the proposed project (i.e., the active “ingredients” that are hypothesized to be critical to achieving the Relevant Outcomes) and describes the theoretical and operational relationships among the key Project Components and Relevant Outcomes.

Parent means natural, adoptive, and foster parents, guardians, and individuals acting in the role of parent.

Performance Measure means any quantitative indicator, statistic, or metric used to gauge program or project performance.

Performance Target means a level of performance that an applicant would seek to meet during the course of a project or as a result of a project.

Project Component means an activity, strategy, intervention, process, product, practice, or policy included in a project. Evidence may pertain to an individual project component or to a combination of project components (e.g., training teachers on instructional practices for English learners and follow-on coaching for these teachers).

Relevant Outcome means the student outcome(s) or other outcome(s) the key Project Component is designed to improve, consistent with the specific goals of the program.

Work-Based Learning means sustained interactions with industry or community professionals in real workplace settings, to the extent practicable, or simulated environments at an educational institution that foster in-depth, firsthand engagement with the tasks required of a given career field, that are aligned to curriculum and instruction.

Waiver of Proposed Rulemaking: Under the Administrative Procedure Act (5 U.S.C. 553), the Department generally offers interested parties the opportunity to comment on proposed priorities, requirements, and definitions. Section 437(d)(1) of GEPA, however, allows the Secretary to exempt from rulemaking requirements regulations governing the first grant competition under a new or substantially revised program authority. This is the first grant competition for this program under a new or substantially revised authority and therefore qualifies for this exemption. In order to ensure timely grant awards, the Secretary has decided to forgo public comment on the priorities, requirements, and definitions under section 437(d)(1) of GEPA. These priorities, requirements, and definitions will apply to the FY 2020 grant competition and any subsequent year in which we make awards from the list of unfunded applications from this competition.

Program Authority: 20 U.S.C. 1138-1138d, the explanatory statement accompanying H.R. 1865 (Pub. L. 116-94), Congressional Record, daily edition, Dec. 17, 2019, at H11083.

Note: Projects must be awarded and operated in a manner consistent with the nondiscrimination requirements contained in the U.S. Constitution and the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR 86 apply to IHEs only.

II. Award Information

Type of Award: Discretionary grants.

Estimated Available Funds: $9,900,000.

Contingent upon the availability of funds and the quality of applications, we may make additional awards in subsequent years from the list of unfunded applications from this competition.

Estimated Range of Awards: $4,400,000-9,000,000 for the 36-month project period.

Estimated Average Size of Awards: $4,950,000 for the 36-month project period.

Estimated Number of Awards: 1-2.

Note: The Department is not bound by any estimates in this notice.

Project Period: Up to 36 months.

III. Eligibility Information

1. Eligible Applicants: Public and private nonprofit institutions and agencies (other than IHEs) with expertise in workforce development or career counseling, alone or in partnership with IHEs or other public and private nonprofit institutions and agencies (such as State workforce development boards, employers, trade associations, or labor unions).

Note: Only public and private nonprofit institutions and agencies may be the fiscal agent in this competition. IHEs may be included as a partner in a grant in which public and private nonprofit institutions and agencies are the fiscal agent as a group application consistent with 34 CFR 75.127-75.129.

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Supplement-Not-Supplant: This competition involves supplement-not-supplant funding requirements.

c. Indirect Cost Rate Information: We are establishing a training indirect cost rate for this program. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200, subpart E, of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is subject to Executive Order 12372 and the regulations in 34 CFR part 79. However, under 34 CFR 79.8(a), we waive intergovernmental review in order to make awards by December 31, 2020.

3. Funding Restrictions: We reference regulations outlining funding restrictions in the Applicable Regulations section of this notice.

4. Recommended Page Limit: The application narrative is where you, the applicant, address the selection criteria that reviewers use to evaluate your application. We recommend that you (1) limit the application narrative to no more than 25 pages and (2) use the following standards:

• A “page” is 8.5″ x 11″, on one side only, with 1″ margins at the top, bottom, and both sides.

• Double space (no more than three lines per vertical inch) all text in the application narrative, including titles, headings, footnotes, quotations, references, and captions as well as all text in charts, tables, figures, and graphs.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The following selection criteria for this competition are from 34 CFR 75.210. Applicants should address each of the following selection criteria. The selection criteria are worth a total of 100 points; the maximum score for each criterion is noted in parentheses.

(a) Significance. (Maximum 20 points) The Secretary considers the significance of the proposed project. In determining the significance of the proposed project, the Secretary considers the following factors:

(1) The extent to which the proposed project is likely to build local capacity to provide, improve, or expand services that address the needs of the target population. (10 points)

(2) The potential replicability of the proposed project or strategies, including, as appropriate, the potential for implementation in a variety of settings. (10 points)

(b) Quality of the project design. (Maximum 25 points) The Secretary considers the quality of the design of the proposed project. In determining the quality of the design of the proposed project, the Secretary considers:

(1) The extent to which the goals, objectives, and outcomes to be achieved by the proposed project are clearly specified and measurable. (5 points)

(2) The extent to which the design of the proposed project is appropriate to, and will successfully address, the needs of the target population or other identified needs. (5 points)

(3) The extent to which the design for implementing and evaluating the proposed project will result in information to guide possible replication of project activities or strategies, including information about the effectiveness of the approach or strategies employed by the project. (5 points)

(4) The extent to which the proposed project represents an exceptional approach to the priority or priorities established for the competition. (10 points)

(c) Quality of project services. (Maximum 10 points) The Secretary considers the quality of the services to be provided by the proposed project.

(1) In determining the quality of the services to be provided by the proposed project, the Secretary considers the quality and sufficiency of strategies for ensuring equal access and treatment for eligible project participants who are members of groups that have traditionally been underrepresented based on race, color, national origin, gender, age, or disability. (3 points)

(2) In addition, the Secretary considers:

(i) The extent to which the services to be provided by the proposed project are appropriate to the needs of the intended recipients or beneficiaries of those services. (3 points)

(ii) The extent to which the services to be provided by the proposed project reflect up-to-date knowledge from research and effective practice. (4 points)

(d) Quality of project personnel. (Maximum 10 points) The Secretary considers the quality of the personnel who will carry out the proposed project.

(1) In determining the quality of project personnel, the Secretary considers the extent to which the applicant encourages applications for employment from persons who are members of groups that have traditionally been underrepresented based on race, color, national origin, gender, age, or disability. (3 points)

(2) In addition, the Secretary considers:

(i) The qualifications, including relevant training and experience, of the project director or principal investigator. (4 points)

(ii) The qualifications, including relevant training and experience, of key project personnel. (3 points)

(e) Adequacy of resources. (Maximum 5 points) The Secretary considers the adequacy of resources for the proposed project. In determining the adequacy of resources for the proposed project, the Secretary considers:

(1) The extent to which the budget is adequate to support the proposed project. (3 points)

(2) The extent to which the costs are reasonable in relation to the objectives, design, and potential significance of the proposed project. (2 points)

(f) Quality of the management plan. (Maximum 15 points) The Secretary considers the quality of the management plan for the proposed project. In determining the quality of the management plan for the proposed project, the Secretary considers:

(1) The adequacy of the management plan to achieve the objectives of the proposed project on time and within budget, including clearly defined responsibilities, timelines, and milestones for accomplishing project tasks. (5 points)

(2) The adequacy of procedures for ensuring feedback and continuous improvement in the operation of the proposed project. (5 points)

(3) The adequacy of mechanisms for ensuring high-quality products and services from the proposed project. (5 points)

(g) Quality of the project evaluation. (Maximum 15 points) The Secretary considers the quality of the evaluation to be conducted of the proposed project. In determining the quality of the evaluation, the Secretary considers:

(1) The extent to which the methods of evaluation are thorough, feasible, and appropriate to the goals, objectives, and outcomes of the proposed project. (10 points)

(2) The extent to which the methods of evaluation include the use of objective performance measures that are clearly related to the intended outcomes of the project and will produce quantitative and qualitative data to the extent possible. (5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures:

(a) For the purposes of the Government Performance and Results Act of 1993 (GPRA) and reporting under 34 CFR 75.110, the Secretary establishes the following indicators to measure progress towards achieving the purposes of the program: The percentage of grantees producing independent evaluations that demonstrate improved effectiveness and alignment of career guidance and exploration systems with improved student outcomes. In addition, applicants must propose project-specific performance measures and performance targets consistent with the objectives of the proposed project.

Applications must provide the following information as directed under 34 CFR 75.110(b) and (c):

(b) Project-specific performance measures. How each proposed performance measure would accurately measure the performance of the project and how the proposed performance measures would be consistent with the performance measures established for the program funding the competition.

(c) Baseline data.

(1) Why each proposed baseline is valid; or

(2) If the applicant has determined that there are no established baseline data for a particular performance measure, an explanation of why there is no established baseline and of how and when, during the project period, the applicant would establish a valid baseline for the performance measure.

(d) Performance targets. Why each proposed performance target is ambitious yet achievable compared to the baseline for the performance measure and when, during the project period, the applicant would meet the performance target(s).

(e) Data collection and reporting.

(1) The data collection and reporting methods the applicant would use and why those methods are likely to yield reliable, valid, and meaningful performance data; and

(2) The applicant's capacity to collect and report reliable, valid, and meaningful performance data, as evidenced by high-quality data collection, analysis, and reporting in other projects or research.

All grantees must submit an annual performance report with information that is responsive to these performance measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact persons listed under FOR FURTHER INFORMATION CONTACT, individuals with disabilities can obtain this document and a copy of the application package in an accessible format (e.g., braille, large print, audiotape, or compact disc), to the extent reasonably practicable.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Robert L. King,
Assistant Secretary for the Office of Postsecondary Education.

[FR Doc. 2020-24814 Filed 11-6-20; 8:45 am]

BILLING CODE 4000-01-P